PEACE CORPS

Notice to Add A New System of Records

AGENCY: Peace Corps.

ACTION: Notice to add a new system of records.

SUMMARY: As required under the Privacy Act of 1974, (5 U.S.C. 552a), as amended, the Peace Corps is giving notice of a new system of records, Coverdell World Wise Schools System.

DATES: This action will be effective without further notice on July 9, 2007 unless comments are received by June 25, 2007 that would result in a contrary determination.

ADDRESSES: You may submit comments by e-mail to sglasow@peacecorps.gov. Include Privacy Act System of Records in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: The Privacy Act, 5 U.S.C. 552a, provides that the public will be given a 30-day period in which to comment on the new system. The Office of Management and Budget (OMB), which has oversight responsibility under the Act, requires a 40-day period in which to review the proposed system. In accordance with 5 U.S.C. 552a, Peace Corps has provided a report on this system to OMB and the Congress.

SYSTEM NAME:

PC-29, Coverdell World Wise Schools System.

System location:

Coverdell World Wise Schools, Office of Domestic Programs, Peace Corps, 1111 20th Street, NW., Washington, DC 20526.

Categories of Individuals Covered by the System:

Currently serving Peace Corps Volunteers, Returned Peace Corps Volunteers, and Educators.

Categories of records in the system:

When applicable, information in the system includes, but is not limited to: Name; social security number; approximate end of service date; type of assignment; country of assignment; region of assignment; home of record city, state, and zip code; e-mail address; address; home phone; work phone; dates of service; school name; school street address, city, state, zip code; school phone; fax number; ethnic makeup of student body; special request information; how the educator heard about the program; RPCV status; participation status in the Correspondence Match Program; grade level taught; number of students participating; preferences for Peace Corps Volunteer match; dates of program activity; release for Peace Corps to release school information; release to quote educator in Coverdell World Wise Schools materials; year the educator was matched to a Peace Corps Volunteer.

Authority for maintenance of the system (includes any revisions or amendments):

The Peace Corps Act, 22 U.S.C. 2501, et seq.

Purpose:

To administer the Correspondence Match Program, which pairs currently-serving Peace Corps Volunteers with U.S. educators in support of the third goal of the Peace Corps: To increase U.S. citizens' understanding of other countries and cultures. Through the Correspondence Match Program, U.S. educators and students receive letters, e-mails, telephone calls, photographs, and artifacts from the Peace Corps Volunteer in their country of service. To administer the Speakers Match Program, which provides returned Peace Corps Volunteers and U.S. educators for the purposes of classroom presentations. To support other activities of the Coverdell World Wise Schools Program, including, but not limited to, educator conferences and print and online resource publication.

Routine uses of records maintained in the system:

Peace Corps general routine uses A through L apply to this system.

Policies and practices for storing, retrieving, accessing, retaining, and disposing of records in the system:

Storage:

On paper and in computerized databases.

Retrievability:

Paper files are retrieved by Educator name and year the educator was matched to a Peace Corps Volunteer. Computerized Database files are retrieved for Peace Corps Trainees and Volunteers by name; social security number; participation status in the Correspondence Match Program; approximate end of service date; type of assignment; country of assignment; region of assignment; home of record city, state, and zip code; and e-mail address. For Returned Peace Corps Volunteers, by name; address; home phone; work phone; e-mail address; country of service; type of assignment; and dates of service. For Educators, by name; school name; school street address, city, state, zip code; school phone; fax number; home phone; e-mail address; ethnic makeup of student body; special request information; how the educator heard about the program; RPCV status; participation status in the Correspondence Match Program; grade level taught; number of students participating; preferences for Peace Corps Volunteer match; dates of program activity; release for Peace Corps to disclose school information; and release to quote educator in Coverdell World Wise Schools materials.

Safeguards:

Computer records are maintained in a secure, password-protected computer system. The office supervisors authorize the appropriate level of record access for each user. Databases are backed up nightly. The domestic back-up media is stored in a data center until delivered to General Services Administration/Department of Defense-approved facilities for offsite storage. Paper records are maintained in lockable file cabinets. The paper records and computer media are maintained in secure, access-controlled areas or buildings.

Retention and disposal:

Paper records are retained by Coverdell World Wise Schools for five years, then retired to the Federal Records Center and destroyed after 20 years. Volunteer Electronic records are retained until two years after Peace Corps Volunteers' completion of service, at which point they are automatically deleted from the database. Returned Peace Corps Volunteer electronic records are stored indefinitely in Speakers Match database.

Educator records are retained until two years after their last activity, at which point they are moved to the electronic archives of the Correspondence Match database.

System Manager:

Director, Coverdell World Wise Schools, Office of Domestic Programs, Peace Corps, 1111 20th Street, NW., Washington, DC 20526.

Procedures for notification, access, and contesting:

Any individual who wants to know whether this system of records contains a record about him or her, who wants access to his or her record, or who wants to contest the contents of a record, should make a written request to the System Manager. Requests for correction or amendment must identify the record to be changed and the corrective action sought. Complete Peace Corps Privacy Act procedures are set out in 22 CFR part 308.

Record source categories:

Record subject.

Exemptions Claimed For The System:

None.

Dated: May 22, 2007.
Wilbert Bryant,
Associate Director for Management.

[FR Doc. E7-10142 Filed 5-24-07; 8:45 am]

BILLING CODE 6051-01-P